DEPARTMENT OF THE INTERIOR

Bureau of Land Management

[LLOR912000.63500000.DQ0000; HAG12-0269]

Notice of Public Meetings, Western Oregon Resource Advisory Committees

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) western Oregon Resource Advisory Committees, will meet as indicated below.

DATES: Coos Bay District: Thursday, September 20 from 9 a.m. to 4 p.m.

Eugene District: Friday, September 7 from 8 a.m. to 5 p.m.

Medford District: Wednesday, September 12 from 8:30 a.m. to 5 p.m.

Roseburg District: Monday, September 17 from 9 a.m. to 4 p.m.

Salem District: Thursday, September 20 from 9 a.m. to 4:30 p.m.

ADDRESSES: The meetings will be held at the following addresses in western Oregon. The point of contact for each meeting is also listed:

Coos Bay District Resource Advisory Committee: Megan Harper, 1300 Airport Lane, North Bend, Oregon 97459, (541) 756-0100.

Eugene District Resource Advisory Committee: Pat Johnston, 3106 Pierce Parkway, Suite E, Springfield, Oregon 97477, (541) 683-6600.

Medford District Resource Advisory Committee: Jim Whittington, 3040 Biddle Road, Medford, Oregon 97504, (541) 618-2200.

Roseburg District Resource Advisory Committee: Jake Winn, 777 NW Garden Valley Blvd., Roseburg, Oregon 97470, (541) 440-4930.

Salem District Resource Advisory Committee: Richard Hatfield, 1717 Fabry Road SE., Salem, Oregon 97306, (503) 375-5657.

FOR FURTHER INFORMATION CONTACT: Jeff Clark, Bureau of Land Management, Oregon/Washington, Oregon State Office, PO Box 2965, Portland, Oregon 97208, (503) 808-6028; jeffclark@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Secure Rural Schools and Community Self Determination Act was extended to provide stability for local counties by compensating them, in part, for the decrease in funds formerly derived from the harvest of timber on Federal lands. Pursuant to the Act, the five Committees serve western Oregon BLM districts that contain Oregon and California grant lands and Coos Bay Wagon Road grant lands. Committees consist of 15 local citizens representing a wide array of interests. The RACs provide a mechanism for local community collaboration with Federal land managers as they select projects to be conducted on Federal lands or that will benefit resources on Federal lands using funds under Title II of the Act.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided above. The Resource Advisory Committees will be based on the following BLM District boundaries:

Coos Bay District Resource Advisory Committee advises Federal officials on projects associated with Federal lands within the Coos Bay District which includes lands in Coos, Curry, Douglas, and Lane Counties.

Eugene District Resource Advisory Committee advises Federal officials on projects associated with Federal lands within the Eugene District boundary which includes lands in Benton, Douglas, Lane, and Linn Counties.

Medford District Resource Advisory Committee advises Federal officials on projects associated with Federal lands within the Medford District and Klamath Falls Resource Area in the Lakeview District which includes lands in Coos, Curry, Douglas, Jackson, and Josephine Counties and small portions of west Klamath County.

Roseburg District Resource Advisory Committee advises Federal officials on projects associated with Federal lands within the Roseburg District boundary which includes lands in Douglas, Lane, and Jackson Counties.

Salem District Resource Advisory Committee advises Federal officials on projects associated with Federal lands within the Salem District boundary which includes lands in Benton, Clackamas, Clatsop, Columbia, Lane, Lincoln, Linn, Marion, Multnomah, Polk, Tillamook, Washington, and Yamhill Counties.

Before including your address, phone number, email address, or other personal identifying information in your comment, you should be aware that your entire comment—including your personal identifying information—may be made publicly available at any time. While you can ask us in your comment to withhold your personal identifying information from public review, we cannot guarantee that we will be able to do so.

Authority: Title VI, Section 205 of Pub. L. 110-343.

Michael S. Mottice,
Acting State Director Oregon/Washington.

[FR Doc. 2012-21000 Filed 8-24-12; 8:45 am]

BILLING CODE 4310-33-P